DEPARTMENT OF LABOR

Employment and Training Administration

[TA-W-75,201]

Abbott Laboratories, Diagnostics Division, Including On-Site Leased Workers From Manpower (Experis US, Inc. and Manpower of Texas Limited Partnership), Comsys, Apex, Fountain Group, Kelly Mitchell, Collaborative Technologies, Partners Consulting, Glotel (Adecco), Innovative Alternatives, Collins Consulting, and On Assignment, Irving, TX; Amended Certification Regarding Eligibility To Apply for Worker Adjustment Assistance

In accordance with Section 223 of the Trade Act of 1974, as amended (“Act”), 19 U.S.C. 2273, the Department of Labor issued a Certification of Eligibility to Apply for Worker Adjustment Assistance on February 24, 2011, applicable to workers of Abbott Laboratories, Diagnostics Division, including on-site leased workers from Manpower, Comsys, Apex, Fountain Group, Kelly Mitchell, Collaborative Technologies, Partners Consulting, Glotel (Adecco), Innovative Alternatives, Collins Consulting and On Assignment, Irving, Texas. The workers are engaged in activities related to the production of immunoassay diagnostic analyzers, associated accessories, and spare parts. The notice was published in the Federal Register on March 10, 2011 (76 FR 13232).

At the request of the Texas Workforce Commission, the Department reviewed the certification for workers of the subject firm. New information shows that workers leased from Manpower are split into two separate groups; Experis US, Inc. (professional) and Manpower of Texas Limited Partnership (clerical) were employed on-site at the Irving, Texas location of Abbott Laboratories, Diagnostics Division. The Department has determined that these workers were sufficiently under the control of Abbott Laboratories, Diagnostics Division to be considered leased workers.

Based on these findings, the Department is amending this certification to include workers leased from Manpower (Experis US, Inc. and Manpower of Texas Limited Partnership) working on-site at the Irving, Texas location of Abbott Laboratories, Diagnostics Division.

The amended notice applicable to TA-W-75,201 is hereby issued as follows:

All workers of Abbott Laboratories, Diagnostics Division, including on-site leased workers from Manpower (Experis US, Inc., and Manpower of Texas Limited Partnership), Comsys, Apex, Fountain Group, Kelly Mitchell, Collaborative Technologies, Partners Consulting, Glotel (Adecco), Innovative Alternatives, Collins Consulting, and On Assignment, Irving, Texas, who became totally or partially separated from employment on or after February 9, 2010, through February 24, 2013, and all workers in the group threatened with total or partial separation from employment on the date of certification through two years from the date of certification, are eligible to apply for adjustment assistance under Chapter 2 of Title II of the Trade Act of 1974, as amended.

Signed at Washington, DC this 12th day of January 2012.
Elliott S. Kushner,
Certifying Officer, Office of Trade Adjustment Assistance.

[FR Doc. 2012-1783 Filed 1-26-12; 8:45 am]

BILLING CODE 4510-FN-P